ENVIRONMENTAL PROTECTION AGENCY

[FRL-9954-64-OA]

Children's Health Protection Advisory Committee

AGENCY: Environmental Protection Agency (EPA).

ACTION: Notice of meeting of the Children's Health Protection Advisory Committee.

SUMMARY: Pursuant to the provisions of the Federal Advisory Committee Act, Public Law 92-463, notice is hereby given that the next meeting of the Children's Health Protection Advisory Committee (CHPAC) will be held November 15 and 16, 2016 at the George Washington University Milken Institute School of Public Health, located at 950 New Hampshire Avenue NW., Washington, DC 20037.

DATES: November 15 and 16, 2016.

ADDRESSES: 950 New Hampshire Avenue NW., Washington, DC 20037.

SUPPLEMENTARY INFORMATION: The meetings of the CHPAC are open to the public. The CHPAC will meet on Thursday, November 15 from 1:00 p.m. to 5:30 p.m. and Friday, November 16 from 9:00 a.m. to 4:00 p.m. An agenda will be posted to www.epa.gov/children.

Access and Accommodations: For information on access or services for individuals with disabilities, please contact Martha Berger at 202-564-2191 or berger.martha@epa.gov, preferably at least 10 days prior to the meeting.

FOR FURTHER INFORMATION CONTACT: Martha Berger, Designated Federal Officer, U.S. EPA; telephone (202) 564-2191 or berger.martha@epa.gov.

Dated: November 24, 2016.
Martha Berger,
Designated Federal Officer.

[FR Doc. 2016-26217 Filed 10-28-16; 8:45 am]

BILLING CODE 6560-50-P